FEDERAL COMMUNICATIONS COMMISSION

47 CFR Part 97

[WT Docket No. 10-62; FCC 11-22]

Amateur Service Rules

AGENCY: Federal Communications Commission.

ACTION: Final rule.

SUMMARY: This document revises the Amateur Radio Service rules to amend and clarify the rules with respect to amateur stations transmitting spread spectrum emissions. The rule amendments are necessary to eliminate the requirement that an amateur station use automatic power control to reduce transmitter power when the station transmits a spread spectrum emission, and to reduce the maximum allowed transmitter output power for an amateur station transmitting a spread spectrum emission. The effect of this action is to eliminate the automatic power control provision which has proven to be virtually impossible to implement, and to encourage amateur stations to experiment with spread spectrum communications technologies.

DATES: Effective April 29, 2011.

FOR FURTHER INFORMATION CONTACT: William T. Cross, Mobility Division, Wireless Telecommunications Bureau, at (202) 418-0680, or TTY (202) 418-7233.

SUPPLEMENTARY INFORMATION: This is a summary of the Commission's Report and Order (R&O), adopted February 22, 2011, and released March 4, 2011. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. By this action, the Commission amends the amateur service rules to eliminate the requirement that an amateur station use automatic power control (APC) to reduce transmitter power when the station transmits a spread spectrum emission using more than 1 watt transmitter power.

2. Also, by this action, the Commission limits the transmitter power that amateur stations may transmit to 10 watts when the station is transmitting a spread spectrum emission.

3. The rules that the Commission adopted in this R&O apply to the control operator and station licensee of an amateur station, none of which may be small entities. The Commission certifies that no regulatory flexibility analysis is necessary here because, even if a substantial number of small entities, namely, amateur radio clubs, were affected by the rules, there would not be a significant economic impact on those entities. The rules we are adopting do not impose economic requirements. Instead, they relate to rules for the amateur radio service. Therefore, we certify that the rule changes adopted in this R&O will not have a significant economic impact on a substantial number of small entities.

4. This R&O and the rule amendments are issued under the authority contained in 47 U.S.C. 154(i), 303(r), and 403.

7. The Commission's Consumer and Governmental Affairs Bureau, Reference Information Center, shall send a copy of this Report and Order, including the Final Regulatory Flexibility Certifications, to the Chief Counsel for Advocacy of the Small Business Administration.

List of Subjects in 47 CFR Part 97

Radio.

Federal Communications Commission.
Marlene H. Dortch,
Secretary.

Rule Changes

For the reasons discussed in the preamble, the Federal Communications Commission amends 47 CFR part 97 as follows:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-609, unless otherwise noted.

§ 97.311 [Amended]

2. Section 97.311 is amended by removing paragraph (d).

3. Section 97.313 is amended by adding paragraph (j) to read as follows:

§ 97.313 Transmitter power standards.

* * * * *

(j) No station may transmit with a transmitter output exceeding 10 W PEP when the station is transmitting a SS emission type.

[FR Doc. 2011-7381 Filed 3-29-11; 8:45 am]

BILLING CODE 6712-01-P